FEDERAL MEDIATION AND CONCILIATION SERVICE

Student Award Program Announcement

AGENCY: Office of the Director (OD), Federal Mediation and Conciliation Service (FMCS).

ACTION: 30-Day notice for comments.

SUMMARY: As a policy initiative, FMCS is creating a student award program.

DATES: August 7, 2020-September 7, 2020.

ADDRESSES: To access and review all the documents related to the information collection listed in this notice, please use http://www.regulations.gov by searching the Docket ID number ED-2016-ICCD-0042. Comments submitted in response to this notice should be submitted electronically through the Federal eRulemaking Portal at http://www.regulations.gov by selecting the Docket ID number or via email, personal delivery, or postal delivery. Comments can be sent by email to kbennett@fmcs.gov; the address for personal or postal delivery is Office of the General Counsel, FMCS, Floor 7, One Independence Square, 250 E St. SW, Washington, DC 20427. Please note that as of July 27, 2020, the FMCS office is not open for visitors and mail is not checked daily. Therefore, we encourage comments through the Portal or via email.

FOR FURTHER INFORMATION CONTACT: For specific questions related to this program, please contact Sarah Cudahy, 202-606-8090, scudahy@fmcs.gov.

SUPPLEMENTARY INFORMATION: The purpose of the Student Award Program is to develop and advocate the art, science, and practice of conflict resolution through the use of alternative dispute resolution. The award program is available to all graduating students of accredited nonprofit colleges or universities at the undergraduate or graduate level. Applications must come from designated points of contact at the academic institutions and not from individual applicants. Criteria for the awards will be published on the FMCS web page, www.fmcs.gov.

Qualifications for the award. Success in specific coursework; Success in a program or other aggregation of courses; Success in a competition; Specific achievements in alternative dispute resolution. Applications from academic institutions for a determination of eligibility should be made not later than sixty (60) days prior to the date on which a recipient from that institution and course will be announced.

Dated: July 27, 2020.
Sarah Cudahy,
General Counsel.

[FR Doc. 2020-16521 Filed 7-29-20; 8:45 am]

BILLING CODE 6732-01-P